GENERAL SERVICES ADMINISTRATION

[OMB Control No. 3090-0284; Docket 2012-0001; Sequence 14]

Office of Citizen Services and Innovative Technologies; Submission for OMB Review; Data.gov Feedback Mechanisms

AGENCY: General Services Administration (GSA).

ACTION: Notice of a request for comments regarding an extension of an existing information collection.

SUMMARY: Under the provisions of the Paperwork Reduction Act, the General Services Administration will be submitting to the Office of Management and Budget (OMB) a request to review and approve a previously approved information collection requirement regarding Data.gov Feedback Mechanisms. A notice was published in the Federal Register at 77 FR 59614, on September 28, 2012. No comments were received.

DATES: Submit comments on or before: February 4, 2013.

ADDRESSES: Submit comments identified by Information Collection 3090-0284, Data.gov Feedback Mechanisms, by any of the following methods:

• Regulations.gov: http://www.regulations.gov. Submit comments via the Federal eRulemaking portal by searching the OMB control number. Select the link “Submit a Comment” that corresponds with “Information Collection 3090-0284, Data.gov Feedback Mechanisms”. Follow the instructions provided at the “Submit a Comment” screen. Please include your name, company name (if any), and “Information Collection 3090-0284, Data.gov Feedback Mechanisms” on your attached document.

• Fax: 202-501-4067.

• Mail: General Services Administration, Regulatory Secretariat (MVCB), 1275 First Street NE., Washington, DC 20417. ATTN: Hada Flowers/IC 3090-0284, Data.gov Feedback Mechanisms.

Instructions: Please submit comments only and cite Information Collection 3090-0284, Data.gov Feedback Mechanisms, in all correspondence related to this collection. All comments received will be posted without change to http://www.regulations.gov, including any personal and/or business confidential information provided.

FOR FURTHER INFORMATION CONTACT: Marion Royal, General Services Administration, Office of Citizen Services and Innovative Technologies, 1275 First Street NE., Washington, DC 20417; telephone number: 202-208-4643; fax number: 202-357-0077; email address: datagov@gsa.gov.

SUPPLEMENTARY INFORMATION:

A. Purpose

Pursuant to section 3506(c)(2)(A) of the PRA, GSA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, GSA is requesting comments from very small businesses (those that employ less than 25) on examples of specific additional efforts that GSA could make to reduce the paperwork burden for very small businesses affected by this collection.

What should I consider when I prepare my comments for GSA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by GSA, be sure to identify the ICR title on the first page of your response. You may also provide the Federal Register citation.

Data.gov is inspired by the President's program for “Open Government” and “Transparency”. In response to the President's direction to improve the transparency of government, the Federal Chief Information Officer (CIO) Council created a Web site/portal that improves public access to a wide variety of U.S. Government data. Data.gov is a public-friendly Web site that provides descriptions of the federal datasets, information on how to access the datasets, points of contact information, metadata information, interactive datasets, “Communities” areas centered on specific topics, and links to publicly accessible applications that leverage the datasets. This information collection request is being submitted in order to fulfill the public feedback aspects of this important initiative. Data.gov visitors will be provided opportunities to provide feedback and ratings in the spirit of the President's open government and transparency initiative. Examples of feedback mechanisms are:

(1) A five-star rating system to give visitors information about which datasets other visitors found most useful and interesting on the Data.gov Web page,

(2) A “Suggest Other Datasets” entry page for the public to submit ideas for datasets with an optional contact email address provided for those visitors wishing to identify themselves,

(3) A “Contact Us” entry page with an optional contact email address for those visitors wishing to identify themselves,

(4) Pages for visitors to advise how they leverage the datasets in new and different ways to build applications, conduct analysis, and perform research,

(5) Pages for visitors to rate the benefit of the reported new solutions, etc.

B. Annual Reporting Burden

Number of Respondents: 9882.

Total Annual Responses: 9882.

Average Hours per Response: 0.017.

Total Burden Hours: 168.

Obtaining Copies of Proposals: Requesters may obtain a copy of the information collection documents from the General Services Administration, Regulatory Secretariat Division (MVCB), 1275 First Street NE., Washington, DC 20417, telephone (202) 501-4755. Please cite OMB Control No. 3090-0284, Data.gov Feedback Mechanisms, in all correspondence.

Dated: December 19, 2012.
Casey Coleman,
Chief Information Officer.

[FR Doc. 2012-31621 Filed 1-2-13; 8:45 am]

BILLING CODE 6820-WY-P